DEPARTMENT OF ENERGY

10 CFR Part 431

[EERE-2022-BT-STD-0015]

Appliance Standards and Rulemaking Federal Advisory Committee: Notice of Open Meetings of the Commercial Unitary Air Conditioner and Commercial Unitary Heat Pump Working Group

AGENCY: Office of Energy Efficiency and Renewable Energy, Department of Energy.

ACTION: Notice of open meetings and webinars.

SUMMARY: The U.S. Department of Energy (DOE or the Department) announces public meetings and webinars for the Commercial Unitary Air Conditioner (“CUAC”) and Commercial Unitary Heat Pump (“CUHP”) Working Group (“CUAC and CUHP Working Group”).

DATES: See the SUPPLEMENTARY INFORMATION section for meeting dates.

ADDRESSES: The next several rounds of public meetings will be held at the U.S. Department of Energy, Forrestal Building, 1000 Independence Avenue SW, Washington, DC 20585-0121. Please see the SUPPLEMENTARY INFORMATION section of this notice to find the specific room in the Forrestal Building for each date. For additional information on attending the public meeting, including webinar registration information, participant instructions, and information about the capabilities available to webinar participants, see the Public Participation section of this notice.

FOR FURTHER INFORMATION CONTACT: Mr. Lucas Adin, U.S. Department of Energy, Office of Energy Efficiency and Renewable Energy, Building Technologies Office, EE-5B, 1000 Independence Avenue SW, Washington, DC 20585-0121. Telephone: (202) 287-5904. Email ASRAC@ee.doe.gov.

SUPPLEMENTARY INFORMATION: If a working group of the Appliance Standards and Rulemaking Federal Advisory Committee (“ASRAC”) is undertaking negotiations, once the working group reaches consensus on the provisions of a proposed rule, a recommendation is made to ASRAC, which may then use such consensus as the basis for making a recommendation to the Department of a proposed rule. The Department, consistent with its legal obligations, may use such consensus as the basis of its proposed rule, which then is published in the Federal Register.

On September 1, 2022, DOE published a notice announcing initial meetings of the CUAC and CUHP Working Group, an ASRAC working group. The purpose of the CUAC and CUHP Working Group is to undertake a negotiated rulemaking to discuss and, if possible, reach consensus on a proposed rule for test procedures and energy conservation standards for CUAC and CUHP equipment, as authorized by the Energy Policy and Conservation Act of 1975, as amended. 87 FR 53699. This notice announces the upcoming meetings for this working group.

The open public meetings and webinars will be held on the following dates and times:

—Tuesday, October 11, 2022, from 9:00 a.m. to 5:00 p.m., Forrestal Building, Room 1E-245

—Wednesday, October 12, 2022, from 9:00 a.m. to 3:00 p.m., Forrestal Building, Room 1E-245

—Wednesday, November 9, 2022, from 9:00 a.m. to 5:00 p.m., Forrestal Building, Room 1E-245

—Thursday, November 10, 2022, from 9:00 a.m. to 3:00 p.m., Forrestal Building, Room 1E-245

—Tuesday, November 29, 2022, from 9:00 a.m. to 5:00 p.m., Forrestal Building, Room 1E-245

—Wednesday, November 30, 2022, from 9:00 a.m. to 3:00 p.m., Forrestal Building, Room 1E-245

—Wednesday, December 14, 2022, from 9:00 a.m. to 5:00 p.m., Forrestal Building, Room 6E-069

—Thursday, December 15, 2022, from 9:00 a.m. to 3:00 p.m., Forrestal Building, Room 6E-069

Purpose of Meetings: To negotiate in an attempt to reach consensus on proposed Federal test procedures and energy conservation standards for CUAC and CUHP equipment under the authority of the Negotiated Rulemaking Act (5 U.S.C. 561-570, Pub. L. 104-320).

Public Participation: The times, dates, and locations of the public meetings are listed previously in this SUPPLEMENTARY INFORMATION section. If you plan to attend the public meeting, please notify the ASRAC staff at asrac@ee.doe.gov. In the email, please indicate your name, organization (if appropriate), citizenship, and contact information. Please note that foreign nationals visiting DOE Headquarters are subject to advance security screening procedures. Any foreign national wishing to participate in the meetings, please notify DOE as soon as possible by contacting Ms. Regina Washington at (202) 586-1214 or by email: regina.washington@ee.doe.gov so that the necessary procedures can be completed. Anyone attending the meetings will be required to present a government photo identification, such as a passport, driver's license, or government identification. Due to the required security screening upon entry, individuals attending should arrive early to allow for the extra time needed.

Members of the public will be heard in the order in which they sign up for the Public Comment Period. Time allotted per speaker will depend on the number of individuals who wish to speak but will not exceed five minutes. Reasonable provision will be made to include the scheduled oral statements on the agenda. A third-party neutral facilitator will make every effort to allow the presentations of views of all interested parties and to facilitate the orderly conduct of business.

Participation in the meetings is not a prerequisite for submission of written comments. Written comments are welcome from all interested parties. Any comments submitted must identify the CUAC and CUHP Working Group and provide docket number EERE-2022-BT-STD-0015. Comments may be submitted using any of the following methods:

1. Federal eRulemaking Portal: www.regulations.gov. Follow the instructions for submitting comments.

2. Email: CommPkgACHP2022STDandTP0015@ee.doe.gov. Include docket number EERE-2022-BT-STD-0015 in the subject line of the message.

3. Postal Mail: Appliance and Equipment Standards Program, U.S. Department of Energy, Building Technologies Program, Mailstop EE-5B, 1000 Independence Avenue SW, Washington, DC 20585-0121. If possible, please submit all items on a compact disc (CD), in which case it is not necessary to include printed copies.

4. Hand Delivery/Courier: Appliance and Equipment Standards Program, U.S. Department of Energy, Building Technologies Program, 950 L'Enfant Plaza SW, 6th Floor, Washington, DC 20024. Telephone: (202) 287-1445. If possible, please submit all items on a CD, in which case it is not necessary to include printed copies.

No telefacsimiles (faxes) will be accepted.

In addition, you can attend the public meeting via webinar. Webinar registration information, participant instructions, and information about the capabilities available to webinar participants will be published on DOE's website: https://energy.gov/eere/buildings/appliance-standards-and-rulemaking-federal-advisory-committee. Participants are responsible for ensuring their systems are compatible with the webinar software.

Procedure for Submitting Prepared General Statements for Distribution: Any person who has plans to present a prepared general statement may request that copies of his or her statement be made available at the public meeting. Such persons may submit requests, along with an advance electronic copy of their statement in PDF (preferred), Microsoft Word or Excel, WordPerfect, or text (ASCII) file format, to the appropriate address shown in the FOR FURTHER INFORMATION CONTACT section of this notice. The request and advance copy of statements must be received at least one week before the public meeting and may be emailed, hand-delivered, or sent by postal mail. DOE prefers to receive requests and advance copies via email. No telefacsimiles (faxes) will be accepted.

Please identify the CUAS and CUHP Working Group and provide docket number EERE-2022-BT-STD-0015 in the request. Please also include a telephone number to enable DOE staff to make a follow-up contact, if needed.

Conduct of the Public Meetings: ASRAC's Designated Federal Officer will preside at the public meetings and may also use a professional facilitator to aid discussion. The meetings will not be judicial or evidentiary-type public hearings, but DOE will conduct them in accordance with section 336 of EPCA (42 U.S.C. 6306). A court reporter will be present to record the proceedings and prepare a transcript. A transcript of each public meeting will be included on DOE's website: https://energy.gov/eere/buildings/appliance-standards-and-rulemaking-federal-advisory-committee. In addition, any person may buy a copy of each transcript from the transcribing reporter. Public comment and statements will be allowed prior to the close of each meeting.

Docket: The docket, which includes Federal Register notices, public meeting attendee lists and transcripts, comments, and other supporting documents/materials is available for review at www.regulations.gov. All documents in the docket are listed in the www.regulations.gov index. However, some documents listed in the index, such as those containing information that is exempt from public disclosure, may not be publicly available.

The docket web page can be found at www.regulations.gov/docket/EERE-2022-BT-STD-0015. The docket web page contains instructions on how to access all documents, including public comments, in the docket.

Signing Authority

This document of the Department of Energy was signed on October 3, 2022, by Francisco Alejandro Moreno, Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 4, 2022.
Treena V. Garrett,
Federal Register Liaison Officer, U.S. Department of Energy.

[FR Doc. 2022-21890 Filed 10-6-22; 8:45 am]

BILLING CODE 6450-01-P